DEPARTMENT OF HEALTH AND HUMAN SERVICES

Centers for Disease Control and Prevention

Disease, Disability, and Injury Prevention and Control Special Emphasis Panel: Minority HIV/AIDS Research Initiative To Build Capacity in Black and Hispanic Communities and Among Black and Hispanic Researchers To Conduct HIV/AIDS Epidemiologic and Prevention Research, Funding Opportunity Announcement (FOA) Number PS07-003

In accordance with section 10(a)(2) of the Federal Advisory Committee Act (Pub. L. 92-463), the Centers for Disease Control and Prevention (CDC) announces a meeting of the aforementioned Special Emphasis Panel.

Time and Date: 8:30 a.m.-9 a.m., May 17, 2007 (Open). 9 a.m.-4 p.m., May 17, 2007 (Closed).

Place: Sheraton Midtown Atlanta Hotel at Colony Square, 188 14th Street, Atlanta, GA 30361.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of research applications received in response to FOA PS07-003, “Minority HIV/AIDS Research Initiative to Build Capacity in Black and Hispanic Communities and Among Black and Hispanic Researchers to Conduct HIV/AIDS Epidemiologic and Prevention Research.”

For Further Information Contact: J. Felix Rogers, PhD, M.P.H., Scientific Review Administrator, Extramural Research Program Office, Centers for Disease Control and Prevention, 1600 Clifton Road, NE, MS E05, Atlanta, GA 30333, telephone 404.639.6101.

The Director, Management Analysis and Services Office, has been delegated the authority to sign Federal Register notices pertaining to announcements of meetings and other committee management activities, for both CDC and the Agency for Toxic Substances and Disease Registry.

Dated: April 16, 2007.
Elaine L. Baker,
Acting Director, Management Analysis and Services Office, Centers for Disease Control and Prevention.

[FR Doc. E7-7520 Filed 4-19-07; 8:45 am]

BILLING CODE 4163-18-P